DEPARTMENT OF HOMELAND SECURITY

Federal Emergency Management Agency

44 CFR Part 65

[Docket ID FEMA-2011-0002; Internal Agency Docket No. FEMA-B-1225]

Changes in Flood Elevation Determinations

AGENCY: Federal Emergency Management Agency, DHS.

ACTION: Interim rule.

SUMMARY: This interim rule lists communities where modification of the Base (1% annual-chance) Flood Elevations (BFEs) is appropriate because of new scientific or technical data. New flood insurance premium rates will be calculated from the modified BFEs for new buildings and their contents.

DATES: These modified BFEs are currently in effect on the dates listed in the table below and revise the Flood Insurance Rate Maps (FIRMs) in effect prior to this determination for the listed communities.

From the date of the second publication of these changes in a newspaper of local circulation, any person has ninety (90) days in which to request through the community that the Deputy Federal Insurance and Mitigation Administrator reconsider the changes. The modified BFEs may be changed during the 90-day period.

ADDRESSES: The modified BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street SW., Washington, DC 20472, (202) 646-4064, or (email) Luis.Rodriguez3@fema.dhs.gov.

SUPPLEMENTARY INFORMATION: The modified BFEs are not listed for each community in this interim rule. However, the address of the Chief Executive Officer of the community where the modified BFE determinations are available for inspection is provided.

Any request for reconsideration must be based on knowledge of changed conditions or new scientific or technical data.

The modifications are made pursuant to section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required either to adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own or pursuant to policies established by other Federal, State, or regional entities. The changes in BFEs are in accordance with 44 CFR 65.4.

National Environmental Policy Act. This interim rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This interim rule is not a significant regulatory action under the criteria of section 3(f) of Executive Order 12866 of September 30, 1993, Regulatory Planning and Review, 58 FR 51735.

Executive Order 13132, Federalism. This interim rule involves no policies that have federalism implications under Executive Order 13132, Federalism.

Executive Order 12988, Civil Justice Reform. This interim rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and case No. | Date and name of newspaper where notice was published | Chief executive officer of community | Effective date of modification | Community No.
Alabama:
Jefferson | Unincorporated areas of Jefferson County (11-04-4802P) | August 10, 2011; August 17, 2011; The Alabama Messenger | The Honorable David Carrington, President, Jefferson County Commission, 716 Richard Arrington Jr. Boulevard North, Suite 230, Birmingham, AL 35203 | September 6, 2011 | 010217
Mobile | Unincorporated areas of Mobile County (11-04-0759P) | August 2, 2011; August 9, 2011; The Press-Register | The Honorable Connie Hudson, President, Mobile County Commission, 205 Government Street, Mobile, AL 36644 | December 7, 2011 | 015008
Mobile | Unincorporated areas of Mobile County (11-04-0760P) | August 2, 2011; August 9, 2011; The Press-Register | The Honorable Connie Hudson, President, Mobile County Commission, 205 Government Street, Mobile, AL 36644 | December 7, 2011 | 015008
Mobile | Unincorporated areas of Mobile County (11-04-0761P) | August 11, 2011; August 18, 2011; The Press-Register | The Honorable Connie Hudson, President, Mobile County Commission, 205 Government Street, Mobile, AL 36644 | December 16, 2011 | 015008
Mobile | Unincorporated areas of Mobile County (11-04-0762P) | August 4, 2011; August 11, 2011; The Press-Register | The Honorable Connie Hudson, President, Mobile County Commission, 205 Government Street, Mobile, AL 36644 | December 5, 2011 | 015008
Arizona: Yavapai | Town of Clarkdale (11-09-1419P) | August 3, 2011; August 10, 2011; The Verde Independent | The Honorable Doug Von Gausig, Mayor, Town of Clarkdale, 39 North 9th Street, Clarkdale, AZ 86324 | December 8, 2011 | 040095
California:
Alameda | City of Fremont (11-09-0580P) | August 25, 2011; September 1, 2011; The Argus | The Honorable Bob Wasserman, Mayor, City of Fremont, 3300 Capitol Avenue, Fremont, CA 94538 | August 16, 2011 | 065028
San Luis Obispo | City of Morro Bay (10-09-3119P) | August 16, 2011; August 23, 2011; The Tribune | The Honorable William Yates, Mayor, City of Morro Bay, 595 Harbor Street, Morro Bay, CA 93442 | December 21, 2011 | 060307
Yuba | Unincorporated areas of Yuba County (11-09-0045P) | August 25, 2011; September 1, 2011; The Appeal-Democrat | The Honorable Roger Abe, Chairman, Yuba County Board of Supervisors, 915 8th Street, Suite 109, Marysville, CA 95901 | December 30, 2011 | 060427
Colorado: Jefferson | City of Lakewood (11-08-0637P) | August 25, 2011; September 1, 2011; The Golden Transcript | The Honorable Bob Murphy, Mayor, City of Lakewood, Lakewood Civic Center South, 480 South Allison Parkway, Lakewood, CO 80226 | August 16, 2011 | 085075
Florida:
Charlotte | Unincorporated areas of Charlotte County (11-04-5839P) | August 5, 2011; August 12, 2011; The Charlotte Sun | The Honorable Bob Starr, Chairman, Charlotte County Board of Commissioners, 18500 Murdock Circle, Port Charlotte, FL 33948 | July 28, 2011 | 120061
Lake | Unincorporated areas of Lake County (11-04-4633P) | August 12, 2011; August 19, 2011; The Daily Commercial | The Honorable Jennifer Hill, Chair, Lake County Board of Commissioners, 315 West Main Street, Tavares, FL 32778 | December 19, 2011 | 120421
St. Lucie | Unincorporated areas of, St. Lucie County (11-04-4362P) | August 5, 2011; August 12, 2011; The St. Lucie News-Tribune | The Honorable Chris Craft, Chairman, St. Lucie County Board of Commissioners, 2300 Virginia Avenue, Fort Pierce, FL 34982 | July 28, 2011 | 120285
Sumter | Unincorporated areas of Sumter County (11-04-5885P) | August 4, 2011; August 11, 2011; The Sumter County Times | The Honorable Don Burgess, Chairman, Sumter County Board of Commissioners, 7375 Powell Road, Wildwood, FL 34785 | July 28, 2011 | 120296
Maryland: Washington | Unincorporated areas of Washington County (10-03-2211P) | June 3, 2011; June 10, 2011; The Herald-Mail | The Honorable Terry L. Baker, President, Washington County Board of Commissioners, 100 West Washington Street, Room 226, Hagerstown, MD 21740 | October 10, 2011 | 240070
New Jersey:
Middlesex | Township of North Brunswick (11-02-1340P) | August 24, 2011; August 31, 2011; The North and South Brunswick Sentinel | The Honorable Francis Womack III, Mayor, Township of North Brunswick, 710 Hermann Road, North Brunswick, NJ 08902 | December 29, 2011 | 340271
Middlesex | Township of South Brunswick (11-02-1340P) | August 24, 2011; August 31, 2011; The North and South Sentinel | The Honorable Frank Gambatese, Mayor, Township of South Brunswick, 540 Ridge Road, Monmouth Junction, NJ 08852 | December 29, 2011 | 340278
North Carolina:
Buncombe | Unincorporated areas of Buncombe County (11-04-2928P) | August 24, 2011; August 31, 2011; The Asheville Citizen-Times | Ms. Wanda Greene, Buncombe County Manager, 205 College Street, Suite 300, Asheville, NC 28801 | August 15, 2011 | 370031
Forsyth | Town of Kernersville (11-04-0470P) | July 21, 2011; July 28, 2011; The Kernersville News and The Winston-Salem Journal | The Honorable Dawn H. Morgan, Mayor, Town of Kernersville, 134 East Mountain Street, Kernersville, NC 27284 | November 25, 2011 | 370319
Forsyth | Unincorporated areas of Forsyth County (11-04-0470P) | July 21, 2011; July 28, 2011; The Kernersville News and The Winston-Salem Journal | Mr. J. Dudley Watts, Jr., Forsyth County Manager, 201 North Chestnut Street, Winston-Salem, NC 27101 | November 25, 2011 | 375349
Oklahoma: Oklahoma | City of Oklahoma City (10-06-3231P) | August 4, 2011; August 11, 2011; The Journal Record | The Honorable Mick Cornett, Mayor, City of Oklahoma City, 200 North Walker Avenue, Oklahoma City, OK 73102 | August 29, 2011 | 405378
Pennsylvania: Delaware | Township of Haverford (11-03-0098P) | July 5, 2011; July 12, 2011; The Daily Times | The Honorable William F. Wechsler, President, Township of Haverford Board of Commissioners, 2325 Darby Road, Havertown, PA 19083 | November 9, 2011 | 420417
South Carolina:
Charleston | Town of Mount Pleasant (11-04-5533P) | August 4, 2011; August 11, 2011; The Post and Courier | The Honorable Billy Swails, Mayor, Town of Mount Pleasant, 100 Ann Edwards Lane, Mount Pleasant, SC 29464 | July 28, 2011 | 455417
Charleston | Unincorporated areas of Charleston County (11-04-5329P) | August 4, 2011; August 11, 2011; The Post and Courier | The Honorable Teddie E. Pryor, Sr., Chairman, Charleston County Council, 4045 Bridge View Drive, North Charleston, SC 29405 | July 28, 2011 | 455413
Tennessee:
Greene | City of Tusculum (11-04-3995P) | June 30, 2011; July 7, 2011; The Greeneville Sun | The Honorable John Foster, Mayor, City of Tusculum, 145 Alexander Street, Greeneville, TN 37745 | June 23, 2011 | 470329
Greene | Town of Greeneville (11-04-3995P) | June 30, 2011; July 7, 2011; The Greeneville Sun | The Honorable W. T. Daniels, Mayor, Town of Greeneville, 200 North College Street, Greeneville, TN 37745 | June 23, 2011 | 470069
Texas:
Bexar | City of Selma (11-06-0764P) | August 11, 2011; August 18, 2011; The Daily Commercial Recorder | The Honorable Tom Daly, Mayor, City of Selma, 9375 Corporate Drive, Selma, TX 78154 | December 16, 2011 | 480046
Dallas | City of Garland (11-06-2614P) | August 3, 2011; August 10, 2011; The Dallas Morning News | The Honorable Ronald E. Jones, Mayor, City of Garland, 200 North 5th Street, Garland, TX 75040 | July 27, 2011 | 485471
Denton and Tarrant | City of Fort Worth (11-06-1407P) | June 28, 2011; July 5, 2011; The Fort Worth Star-Telegram | The Honorable Betsy Price, Mayor, City of Fort Worth, 1000 Throckmorton Street, Fort Worth, TX 76102 | November 2, 2011 | 480596
Denton | City of Lewisville (11-06-3720P) | August 10, 2011; August 17, 2011; The Lewisville Leader | The Honorable Dean Ueckert, Mayor, City of Lewisville, 151 West Church Street, Lewisville, TX 75029 | December 15, 2011 | 480195
El Paso | City of El Paso (11-06-2150P) | August 11, 2011; August 18, 2011; The El Paso Times | The Honorable John F. Cook, Mayor, City of El Paso, 2 Civic Center Plaza, 10th Floor, El Paso, TX 79901 | August 4, 2011 | 480214
Gregg and Harrison | City of Longview (11-06-0244P) | August 3, 2011; August 10, 2011; The Longview News-Journal | The Honorable Jay Dean, Mayor, City of Longview, 300 West Cotton Street, Longview, TX 75601 | August 25, 2011 | 480264
Tarrant | City of Euless (10-06-3064P) | March 4, 2011; March 11, 2011; The Fort Worth Star-Telegram | The Honorable Mary Lib Saleh, Mayor, City of Euless, 201 North Ector Drive, Euless, TX 76039 | July 11, 2011 | 480593
Tarrant | City of Keller (10-06-0163P) | April 8, 2010, April 15, 2010, The Fort Worth Star-Telegram | The Honorable Pat McGrail, Mayor, City of Keller, 1100 Bear Creek Parkway, Keller, TX 76248 | April 1, 2010 | 480602
Tarrant | City of Keller (11-06-0636P) | July 14, 2011; July 21, 2011; The Fort Worth Star-Telegram | The Honorable Pat McGrail, Mayor, City of Keller, 1100 Bear Creek Parkway, Keller, TX 76248 | July 7, 2011 | 480602
Tarrant | City of Keller (11-06-2181P) | June 24, 2011; July 1, 2011; The Fort Worth Star-Telegram | The Honorable Pat McGrail, Mayor, City of Keller, 1100 Bear Creek Parkway, Keller, TX 76248 | October 31, 2011 | 480602
Tarrant | City of North Richland Hills (11-06-0636P) | July 14, 2011; July 21, 2011; The Fort Worth Star-Telegram | The Honorable Oscar Trevino, Jr., P.E., Mayor, City of North Richland Hills, 7301 Northeast Loop 820, North Richland Hills, TX 76180 | July 7, 2011 | 480607
Travis | Unincorporated areas of Travis County (11-06-0223P) | August 11, 2011; August 18, 2011; The Austin American-Statesman | The Honorable Samuel T. Biscoe, Travis County Judge, 314 West 11th Street, Suite 520, Austin, TX 78701 | August 4, 2011 | 481026
Williamson | City of Georgetown (11-06-2998P) | August 17, 2011; August 24, 2011; The Williamson County Sun | The Honorable George Garver, Mayor, City of Georgetown, 113 East 8th Street, Georgetown, TX 78626 | December 22, 2011 | 480668
Williamson | Unincorporated areas of Williamson County (10-06-3690P) | July 27, 2011; August 3, 2011; The Williamson County Sun | The Honorable Dan A. Gattis, Williamson County Judge, 710 South Main Street, Suite 101, Georgetown, TX 78626 | December 2, 2011 | 481079

(Catalog of Federal Domestic Assistance No. 97.022, “Flood Insurance.”)

Dated: October 17, 2011.
Sandra K. Knight,
Deputy Associate Administrator for Mitigation, Department of Homeland Security, Federal Emergency Management Agency.

[FR Doc. 2011-28562 Filed 11-3-11; 8:45 am]

BILLING CODE 9110-12-P